ENVIRONMENTAL PROTECTION AGENCY

[EPA-HQ-OPPT-2019-0075; FRL-9992-81]

Certain New Chemicals; Receipt and Status Information for July 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 07/01/2019 to 07/31/2019.

DATES: Comments identified by the specific case number provided in this document must be received on or before October 7, 2019.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 07/01/2019 to 07/31/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of TSCA section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the TSCA section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved* From 07/01/2019 to 07/31/2019
Case No. | Version | Received date | Manufacturer | Use | Chemical substance
J-19-0024 | 1 | 6/28/2019 | CBI | (G) Ethanol production | (G) Biofuel producing Saccharomyces cerevisiae modified, genetically stable.
J-19-0025 | 1 | 6/28/2019 | CBI | (G) Ethanol production | (G) Biofuel producing Saccharomyces cerevisiae modified, genetically stable.
P-16-0354A | 4 | 7/8/2019 | CBI | (G) Intermediate | (G) Esteramine.
P-16-0354A | 5 | 7/9/2019 | CBI | (G) Intermediate | (G) Esteramine.
P-16-0355A | 4 | 7/8/2019 | CBI | (G) Intermediate | (G) Esteramine.
P-16-0355A | 5 | 7/9/2019 | CBI | (G) Intermediate | (G) Esteramine.
P-17-0003A | 9 | 6/25/2019 | CBI | (G) Printing ink applications | (G) Styrene(ated) copolymer with alkyl(meth)acrylate, and (meth)acrylic acid.
P-17-0346A | 6 | 7/2/2019 | CBI | (G) Destructive use | (G) triarylalkyl phosphonium halide salt.
P-17-0346A | 7 | 7/8/2019 | CBI | (G) Destructive use | (G) triarylalkyl phosphonium halide salt.
P-17-0375A | 5 | 6/30/2019 | CBI | (G) Paint additive | (G) 2-Oxepanone, polymer with diisocyanatohexane, alkyl-((hydroxyalkyl)-alkanediol and isocyanato-(isocyanatoalkyl)-trialkylcyclohexane, di-alkyl malonate- and polyalkylene glycol mono-Me ether-blocked, reaction products with (methylalkyl)-propanamine.
P-17-0383A | 2 | 7/17/2019 | Toagosei America, Inc. | (G) Binder | (G) Alkenoic acid, polymer will ammonium alkenoate (1:1) and polyalkylenediol diacrylate.
P-17-0387A | 5 | 7/8/2019 | CBI | (G) Paint | (G) Dicarboxylic acids, polymers with alkanoic acid, alkanediol, susbtituted-alkylalkanoic acid, substituted alkyl carbomonocyle, alkanedioic acid and alkanediol, alkanolamine blocked, compds with alkanolamine.
P-17-0388A | 5 | 7/8/2019 | CBI | (G) Paint | (G) Dicarboxylic acids, polymers with alkanoic acid, alkanediol, susbtituted-alkylalkanoic acid, substituted alkyl carbomonocyle, alkanedioic acid and alkanediol, alkanolamine blocked, compds with alkanolamine.
P-17-0398A | 12 | 6/28/2019 | Nexus Fuels | (G) Component of complex formulations for blending | (G) Branched Cyclic and Linear Hydrocarbons from Plastic Depolymerization.
P-17-0399A | 12 | 6/28/2019 | Nexus Fuels | (G) Stock use | (G) Alkane, Alkene, Styrenic Compounds Derived from Plastic Depolymerization.
P-17-0400A | 6 | 7/8/2019 | CBI | (G) Rubber products | (G) Terpolymer of Vinylidene fluoride, Tetrafluoroehylene and 2,3,3,3-Tetrafluoropropene.
P-17-0404A | 2 | 7/17/2019 | Arlanxeo | (G) Intermediate completely used on site | (G) Nitrile-butadiene-acrylate-terpolymers.
P-17-0405A | 4 | 7/3/2019 | CBI | (G) Oil and gas well performance | (G) halogenated benzoic acid ethyl ester.
P-17-0406A | 4 | 7/3/2019 | CBI | (G) Oil and gas well performance | (G) halogenated benzoic acid ethyl ester.
P-17-0407A | 3 | 7/3/2019 | CBI | (G) Well performance | (G) halogenated benzoic acid ethyl ester.
P-17-0408A | 2 | 7/3/2019 | CBI | (G) Well performance | (G) halogenated benzoic acid ethyl ester.
P-17-0409A | 3 | 7/3/2019 | CBI | (G) Monitor well performance | (G) halogenated benzoic acid ethyl ester.
P-17-0409A | 2 | 6/27/2019 | CBI | (G) Monitor well performance | (G) halogenated benzoic acid ethyl ester.
P-17-0410A | 2 | 7/3/2019 | CBI | (G) Monitor well performance | (G) halogenated benzoic acid ethyl ester.
P-17-0411A | 2 | 7/3/2019 | CBI | (G) Monitor well performance | (G) halogenated benzoic acid ethyl ester.
P-17-0412A | 2 | 7/3/2019 | CBI | (G) Monitor well performance | (G) halogenated benzoic acid ethyl ester.
P-17-0414A | 3 | 7/3/2019 | CBI | (G) Monitor well performance | (G) halogenated benzoic acid.
P-17-0415A | 3 | 7/3/2019 | CBI | (G) Monitor well performance | (G) halogenated benzoic acid.
P-17-0416A | 3 | 7/3/2019 | CBI | (G) Monitor well performance | (G) halogenated benzoic acid.
P-17-0417A | 3 | 7/3/2019 | CBI | (G) Monitor well performance | (G) halogenated benzoic acid.
P-17-0418A | 3 | 7/3/2019 | CBI | (G) Monitor well performance | (G) halogenated benzoic acid.
P-17-0420A | 4 | 7/3/2019 | CBI | (G) Monitor well performance | (G) halogenated benzoic acid.
P-17-0421A | 3 | 7/3/2019 | CBI | (G) Monitor well performance | (G) halogenated benzoic acid.
P-17-0422A | 3 | 7/3/2019 | CBI | (G) Monitor well performance | (G) halogenated benzoic acid.
P-17-0423A | 2 | 7/3/2019 | CBI | (G) Monitor well performance | (G) halogenated benzoic acid ethyl ester.
P-17-0441A | 2 | 6/28/2019 | CBI | (G) Monitor well performance | (G) halogenated sodium benzoate.
P-17-0442A | 2 | 7/2/2019 | CBI | (G) Monitor well performance | (G) halogenated sodium benzoate.
P-17-0443A | 3 | 7/2/2019 | CBI | (G) Monitor well performance | (G) halogenated sodium benzoate.
P-17-0444A | 2 | 7/2/2019 | CBI | (G) Monitor well performance | (G) halogenated sodium benzoate.
P-17-0445A | 3 | 7/3/2019 | CBI | (G) Monitor well performance | (G) halogenated sodium benzoate.
P-17-0446A | 2 | 7/3/2019 | CBI | (G) Monitor well performance | (G) halogenated sodium benzoate.
P-17-0447A | 2 | 6/27/2019 | CBI | (G) Monitor well performance | (G) halogenated sodium benzoate.
P-17-0447A | 3 | 7/3/2019 | CBI | (G) Monitor well performance | (G) halogenated sodium benzoate.
P-17-0448A | 2 | 7/3/2019 | CBI | (G) Monitor well performance | (G) halogenated sodium benzoate.
P-17-0449A | 2 | 7/3/2019 | CBI | (G) Monitor well performance | (G) halogenated sodium benzoate.
P-17-0450A | 2 | 7/3/2019 | CBI | (G) Monitor well performance | (G) Halogenated benzoic acid.
P-18-0001A | 11 | 6/27/2019 | Nexus Fuels | (G) Additive | (G) Carbon compound derived from plastic depolymerization.
P-18-0003A | 5 | 6/27/2019 | ETNA Products, Inc | (S) Lubricant for metal working applications | (G) fatty acids, diesters with dihydroxyalkane, Fatty acids, esters with dihydroxyalkane.
P-18-0009A | 6 | 7/22/2019 | CBI | (G) Lubricant additive | (G) Phosphonic acid, dimethyl ester, polymer with alkyl diols.
P-18-0012A | 4 | 7/12/2019 | CBI | (G) Adhesives | (G) Polyester polyol.
P-18-0028A | 6 | 6/28/2019 | Nexus Fuels | (G) Feedstock, blending | (G) Branched cyclic and linear hydrocarbons from plastic depolymerization.
P-18-0028A | 7 | 7/2/2019 | Nexus Fuels | (G) Feedstock, blending | (G) Branched cyclic and linear hydrocarbons from plastic depolymerization.
P-18-0121A | 2 | 7/29/2019 | Kyodo Yushi USA, Inc. | (G) Additive for Lubricating Grease | (S) Benzene, 1,1'-oxybis-, branched eicosyl derivs.
P-18-0150A | 4 | 7/18/2019 | CBI | (G) Component of an industrial coating | (G) Tertiary amine, compounds with amino sulfonic acid blocked aliphatic isocyanate homopolymer.
P-18-0165 | 5 | 7/17/2019 | Cabot Corporation | (S) Chemical intermediate | (G) 2,5-Furandione, polymer with ethenylbenzene, 4-hydroxy-substituted butyl amide, sodium salts.
P-18-0166 | 5 | 7/17/2019 | Cabot Corporation | (S) Chemical Intermediate | (G) 2,5-Furandione, polymer with ethenylbenzene, 4-hydroxy- substituted butyl [3-[2-[1-[[(2-methoxyphenyl)amino]carbonyl]-2-oxopropyl]diazenyl]phenyl]substituted, sodium salts.
P-18-0167A | 3 | 7/17/2019 | Cabot Corporation | (S) Chemical intermediate | (G) Butanamide, 2-[2-[(substitutued phenyl)diazenyl]-N-(2-methoxyphenyl)-3-oxo-.
P-18-0175A | 7 | 7/29/2019 | Hexion, Inc | (S) Food can coating and Non-food contact can coating | (S) Formaldehyde, polymer with 4-(1,1-dimethylethyl)phenol and phenol, Bu ether.
P-18-0190 | 2 | 7/17/2019 | Cabot Corporation | (S) Pigment Dispersing Aid | (G) 2,5-Furandione, polymer with ethenylbenzene, 4-hydroxy-substituted butyl amide, polymers with epichlorohydrin and trimethylolpropane, sodium salts.
P-18-0191 | 2 | 7/17/2019 | Cabot Corporation | (S) Pigment Dispersing Aid | (G) 2,5-Furandione, polymer with ethenylbenzene, 4-hydroxy-substitutedbutyl [3-[2-[1-[[(substitutedphenyl)amino]carbonyl]-2-oxopropyl]diazenyl]phenyl]methyl amide, polymers with epichlorohydrin and trimthylolpropane, sodium salts.
P-18-0214A | 3 | 7/22/2019 | CBI | (G) Curing agent | (G) Polycyclic substituted alkane, polymer with cyclicalkylamine, epoxide, and polycyclic epoxide ether, reaction products with dialkylamine substituted alkyl amine.
P-18-0215A | 3 | 7/22/2019 | CBI | (G) Curing agent | (G) Polycyclic alkane, polymer with monocyclic amine, polycyclic epoxide ether, reaction products with dialkylamine alkyl amine.
P-18-0216A | 3 | 7/22/2019 | CBI | (G) Curing agent | (G) Polycyclic substituted alkane, polymer with epoxide, reaction products with cyclicalkylamine and dialkylamine substituted alkyl amine.
P-18-0223A | 2 | 7/12/2019 | Clariant Corporation | (S) Selectivity improver for catalysts used in the production of polyolefins | (G) Alkane, bis(alkoxymethyl)-dimethyl-.
P-18-0241A | 4 | 6/27/2019 | CBI | (G) Additive for automotive coating | (G) 2-Propenoic acid, 2-methyl-, methyl ester, polymer with ethenylbenzene, ethyl 2-propenoate, 2-oxiranylmethyl 2-methyl-2-propenoate and 1,2-propanediol mono(2-methyl-2-propenoate), reaction products with diethanolamine, polymers with substituted-alkyl acrylate, formates (salts).
P-18-0242A | 4 | 6/27/2019 | CBI | (S) Withdrawn | (S) Substance withdrawn.
P-18-0243A | 4 | 6/27/2019 | CBI | (S) Withdrawn | (S) Substance withdrawn.
P-18-0244A | 4 | 6/27/2019 | CBI | (G) Additive for automotive coating | (G) 2-Propenoic acid, 2-methyl, methyl ester, polymer with ethenylbenzene, ethyl 2-propenoate, 2-oxiranylmethyl 2-methyl-2-propenoate and 1,2-propanediol mono(2-methyl-2-propenoate), reaction products with diethanolamine, polymers with substituted-alkyl methacrylate, formates (salts).
P-18-0245A | 4 | 6/27/2019 | CBI | (G) Additive for automotive coating | (G) 2-Propenoic acid, 2-methyl-, methyl ester, polymer with ethenylbenzene, ethyl 2-propenoate, 2-oxiranylmethyl 2-methyl-2-propenoate, and 1,2-propanediol mono(2-methyl-2-propenoate), reaction products with diethanolamine, polymers with alkylene glycol monoacrylate, formates (salts).
P-18-0246A | 4 | 6/27/2019 | CBI | (S) Withdrawn | (S) Substance withdrawn.
P-18-0257A | 3 | 7/1/2019 | Everris NA, Inc | (S) Inorganic fertilizer | (S) Phosphoric acid, potassium salt (2:3).
P-18-0267A | 3 | 7/22/2019 | CBI | (G) Curing agent | (G) Branched alkanoic acid, epoxy ester, reaction products with monocyclic dialkylamine and polycyclic alcohol epoxy polymer.
P-18-0268A | 3 | 7/22/2019 | CBI | (G) Curing agent | (G) Branched alkanoic acid, epoxy ester, reaction products with monocyclicdialkanamine and polycyclic dialkanol ether polymer.
P-18-0269A | 3 | 7/22/2019 | CBI | (G) Curing agent | (G) Branched alkanoic acid, epoxy ester, reaction products with monocyclicalkanamine, polycyclic alcohol ether homopolymer, and polycyclic alcohol epoxy polymer.
P-18-0292A | 4 | 7/21/2019 | CBI | (G) Use in print resins | (G) alkanediol, polymer with 5-isocyanato-1-(isocyanatomethyl)-1,3,3-trimethylcyclohexane, alkylaminoalkyl methacrylate-blocked.
P-18-0300A | 2 | 2/8/2019 | CBI | (S) Additive for automatic dishwashing detergent | (G) Heteromonocycle, alkenoic 1:1 salt, polymer with alpha-(2-methyl-1-oxo-2-propen-1-y)l-omegamethoxypoly(oxy-1,2-ethanediyl) and methyl-alkenoic acid.
P-18-0334A | 2 | 7/12/2019 | Sirrus, Inc | (S) Intermediate use | (S) Propanedioic acid, 1,3-dihexyl ester.
P-18-0335A | 2 | 7/12/2019 | Sirrus, Inc | (S) Intermediate use | (S) Propanedioic acid, 1,3-dicyclohexyl ester.
P-18-0336A | 2 | 6/26/2019 | Sirrus, Inc | (S) Intermediate use | (S) Propanedioic acid, 2,2-bis(hydroxymethyl)-, 1,3-dihexyl ester.
P-18-0336A | 3 | 7/1/2019 | Sirrus, Inc | (S) Intermediate use | (S) Propanedioic acid, 2,2-bis(hydroxymethyl)-, 1,3-dihexyl ester.
P-18-0337A | 2 | 6/26/2019 | Sirrus, Inc | (S) Intermediate use | (S) Propanedioic acid, 2,2-bis(hydroxymethyl)-, 1,3-dicyclohexyl ester.
P-18-0337A | 3 | 7/1/2019 | Sirrus, Inc | (S) Intermediate use | (S) Propanedioic acid, 2,2-bis(hydroxymethyl)-, 1,3-dicyclohexyl ester.
P-18-0341A | 4 | 7/2/2019 | CBI | (G) Component in coatings | (G) Alkane dicarboxylic acid, polymer with alkoxylated polyalcohol, alkyl polyglycol, alkyl dialcohol, and functionalized carboxylic acid.
P-18-0341A | 5 | 7/2/2019 | CBI | (G) Component in coatings | (G) Alkane dicarboxylic acid, polymer with alkoxylated polyalcohol, alkyl polyglycol, alkyl dialcohol, and functionalized carboxylic acid.
P-18-0341A | 6 | 7/30/2019 | CBI | (G) Component in coatings | (G) Alkane dicarboxylic acid, polymer with alkoxylated polyalcohol, alkyl polyglycol, alkyl dialcohol, and functionalized carboxylic acid.
P-18-0342A | 4 | 7/2/2019 | CBI | (G) Component in coatings | (G) Alkane dicarboxylic acid, polymer with alkyl polyglycol, alkyl dialcohol, and functionalized carboxylic acid.
P-18-0342A | 5 | 7/2/2019 | CBI | (G) Component in coatings | (G) Alkane dicarboxylic acid, polymer with alkyl polyglycol, alkyl dialcohol, and functionalized carboxylic acid.
P-18-0342A | 6 | 7/30/2019 | CBI | (G) Component in coatings | (G) Alkane dicarboxylic acid, polymer with alkyl polyglycol, alkyl dialcohol, and functionalized carboxylic acid.
P-18-0343A | 4 | 7/2/2019 | CBI | (G) Component in coatings | (G) Alkane dicarboxylic acid, polymer with alkoxylated polyalcohol, and alkyl dialcohol, (hydroxy alkyl) ester.
P-18-0343A | 5 | 7/2/2019 | CBI | (G) Component in coatings | (G) Alkane dicarboxylic acid, polymer with alkoxylated polyalcohol, and alkyl dialcohol, (hydroxy alkyl) ester.
P-18-0343A | 6 | 7/30/2019 | CBI | (G) Component in coatings | (G) Alkane dicarboxylic acid, polymer with alkoxylated polyalcohol, and alkyl dialcohol, (hydroxy alkyl) ester.
P-18-0344A | 4 | 7/2/2019 | CBI | (G) Component in coatings | (G) Aromatic dicarboxylic acid, polymer with alkane dicarboxylic acid, alkoxylated polyalcohol, and alkyl dialcohol.
P-18-0344A | 5 | 7/2/2019 | CBI | (G) Component in coatings | (G) Aromatic dicarboxylic acid, polymer with alkane dicarboxylic acid, alkoxylated polyalcohol, and alkyl dialcohol.
P-18-0344A | 6 | 7/30/2019 | CBI | (G) Component in coatings | (G) Aromatic dicarboxylic acid, polymer with alkane dicarboxylic acid, alkoxylated polyalcohol, and alkyl dialcohol.
P-18-0394A | 3 | 7/30/2019 | CBI | (G) Chemical intermediate | (G) substituted benzylic ether polyethylene glycol alkyl ether derivative.
P-18-0403A | 2 | 7/15/2019 | Clariant Plastics & Coatings USA, Inc | (S) Dispersing agent for pigments, paints, and coatings | (S) 2-Propenoic acid, 2-methyl-, butyl ester, polymer with 2-(dimethylamino)ethyl 2-methyl-2-propenoate and 2-ethylhexyl 2-methyl-2-propenoate.
P-19-0009A | 5 | 7/8/2019 | Allnex USA, Inc | (S) The PMN substance is used as a coating resin additive for corrosion protection | (G) Carbonmonocycles, polymer with haloalkyl substituted heteromonocycle and hydro-hydroxypoly[oxy(alkyl-alkanediyl)], dialkyl-alkanediamine-terminated, hydroxyalkylated, acetates (salts).
P-19-0011 | 2 | 7/17/2019 | Shin Etsu Silicones of America | (G) Additive to the EPDM rubber compounds | (G) Polysulfides, bis[3-(trialkoxysilyl)propyl].
P-19-0012A | 11 | 6/13/2019 | CBI | (S) Resin component for the polyisocyanurate, and resin component in specialty polyurethane kits and systems for aerospace and military applications | (G) Benzenedicarboxylic acid, rection products with isobenzofurandione and diethylene glycol.
P-19-0024A | 5 | 7/2/2019 | Sales and Distribution Services, Inc | (S) Hot Mix Asphalt Application: The PMN compound will be used as asphalt additive for hot mix (HMA) as well as cold mix (CMA) asphalt applications. The PMN substance chemically reacts with the surface of the aggregate and changes surface characteristics of aggregate from hydrophilic to hydrophobic. This change provides stronger bonding between asphalt and aggregates and reduces the potential for stripping away asphalt binder from an aggregate due to water. Asphalt Emulsion Application: The PMN substance is water soluble and can be used as an asphalt emulsion in road construction. This additive provides better bonding with ground surface, quick drying and reduced tire pickup of the asphalt emulsion by application equipment | (S) 1-Octadecanaminium, N,N-dimethyl-N-[3-(trimethoxysilyl)propyl]-, chloride (1:1) , reaction products with water, Trimethoxy(propyl) silane, Trimethoxy(methyl)silane, Tetraethyl orthosilicate and ethane-1,2-diol.
P-19-0024A | 6 | 7/3/2019 | Sales and Distribution Services | (S) Hot Mix Asphalt Application: The PMN compound will be used as asphalt additive for hot mix (HMA) as well as cold mix (CMA) asphalt applications. The PMN substance chemically reacts with the surface of the aggregate and changes surface characteristics of aggregate from hydrophilic to hydrophobic. This change provides stronger bonding between asphalt and aggregates and reduces the potential for stripping away asphalt binder from an aggregate due to water; Waterproofing Application: The PMN substance is expected to be used in waterproofing of building materials, including cementitious material, masonry, concrete, plaster, bricks, etc. It is initially intended to be used at a maximum of 5 sites by trained commercial applicators. The PMN substance is modification of a quaternary silane compound by a hydrolysis reaction with other silanes to make it an oligomeric compound. These quaternary silane products have been manufactured and marketed for waterproofing uses for over 35 years. The solution of PMN substance in water is applied as a waterproofing sealer for building materials by spray application; Asphalt Emulsion Application: The PMN substance is water soluble and can be used as an asphalt emulsion in road construction. This additive provides better bonding with ground surface, quick drying and reduced tire pickup of the asphalt emulsion by application equipment | (S) 1-Octadecanaminium, N,N-dimethyl-N-[3-(trimethoxysilyl)propyl]-, chloride (1:1) , reaction products with water, Trimethoxy(propyl) silane, Trimethoxy(methyl)silane, Tetraethyl orthosilicate and ethane-1,2-diol.
P-19-0034A | 5 | 7/26/2019 | CBI | (G) Contained use as a component of tires | (G) Metal, bis(2,4-pentanedionato-kO2,kO4)-, (T-4)-.
P-19-0037A | 2 | 7/11/2019 | CBI | (G) Chemical intermediate | (G) D-Glucaric acid, mixed alkali metal salt.
P-19-0051A | 6 | 7/29/2019 | CBI | (G) UV curable inks | (G) 1,3-Propanediamine, N1,N1-dimethyl-, polymers with alkylene glycol ether with alkyltriol (3:1) mixed acrylates and adipates, and alkylene glycol monoacrylate ether with alkyltriol (3:1).
P-19-0058 | 2 | 7/8/2019 | Essential Industries, Inc | (S) Wood Coating | (S) Butanoic acid, 3-oxo-, 2-[(2-methyl-1-oxo-2-propen-1-yl)oxy]ethyl ester, polymer with butyl 2-propenoate, ethenylbenzene, methyl 2-methyl-2-propenoate and 2-methyl-2-popenoic acid, ammonium salt.
P-19-0059 | 3 | 7/30/2019 | Essential Industries, Inc | (S) Wood Coating | (S) Butanoic acid, 3-oxo-, 2-[(2-methyl-1-oxo-1-propen-1-yl)oxy]ethyl ester, polymer with butyl 2-propenoate, ethenylbenzene, 1,1'-[(1-methyl-1,2-ethanediyl)bis[oxy(methyl-2,1-ethanediyl)]] di-2-propenoate, methyl 2-methyl-2-propenoate and 2-methyl-2-propenoic acid, ammonium salt.
P-19-0064A | 3 | 7/11/2019 | The Sherwin Williams Company | (G) Polymeric film former for coatings | (G) 4,4'-methylenebis[2,6-dimethyl phenol] polymer with 2-(chloromethyl)oxirane, 1,4-benzyl diol, 2-methyl-2-propenoic acid, butyl 2-methyl 2-propenoate, ethyl 2-methyl 2-propenoate, and ethyl 2-propenoate, reaction products with 2-(dimethylamino) ethanol.
P-19-0077A | 3 | 7/10/2019 | CBI | (G) Agricultural | (G) alkenylamide.
P-19-0077A | 4 | 7/11/2019 | CBI | (G) Agricultural | (G) alkenylamide.
P-19-0088A | 2 | 7/17/2019 | CBI | (G) Feedstock for amine recovery | (S) Ethanamine, N-ethyl-, 2-hydroxy-1,2,3-propanetricarboxylate (1:?).
P-19-0095A | 4 | 6/28/2019 | CBI | (G) Consumer Disposables, Polymer Sheet, and Durable Goods | (G) Poly hydroxy alkanoate.
P-19-0099A | 3 | 7/10/2019 | Essential Industries, Inc | (S) Clear coat for wood | (S) Propanoic acid, 3-hydroxy-2-(hydroxymethyl)-2-methyl-, polymer with dimethyl carbonate, 1,2-ethanediamine, 2-ethyl-2-(hydroxymethyl)-1,3-propanediol, 1,6-hexanediol and 1,1'-methylenebis[4-isocyanatocyclohexane], compd. with N,N-diethylethanamine.
P-19-0101A | 5 | 7/16/2019 | CBI | (G) Monitor well performance | (G) Halogenated alkylbenzoic acid, ethyl ester.
P-19-0111 | 2 | 7/1/2019 | SHIN-ETSU MICROSI | (G) Contained use for microlithography for electronic device manufacturing | (G) Dibenzotheiophenium, aryl substituted trifluoro-hydroxy-(triheterosubstitutedalkyl)alkaoate (1:1).
P-19-0117A | 4 | 7/18/2019 | CBI | (G) Additive | (G) Polycyclic amine, reaction products with polyalkylalkene, polymers.
P-19-0118A | 2 | 7/2/2019 | CBI | (G) Component of lubricant | (G) Substituted polyalkylenepoly, reaction products with alkene polymer.
P-19-0121 | 2 | 7/11/2019 | H.B. Fuller Company | (S) Industrial adhesives | (G) Plant based oils, polymer with 1,1'-methylenebis[4-isocyanatobenzene], pentaerythritol, phthalic esters, polypropylene glycol and polypropylene glycol ether with glycerol (3:1).
P-19-0122 | 1 | 6/28/2019 | CBI | (G) Reactant monomer in a polymer for industrial use | (G) Alkylamidoethyl acrylate.
P-19-0123 | 1 | 6/28/2019 | CBI | (G) Reactant monomer in a polymer for industrial use | (G) Alkylamidoethyl acrylate.
P-19-0124 | 1 | 6/28/2019 | SEFA Group, Inc | (S) Additive for polymers: e.g., rubber, plastics, adhesives, coatings and sealants | (G) Ashes (residues), reaction products with alkenetrialkoxysilane and silicic acid (H4SiO4) tetra-Et ester.
P-19-0124A | 2 | 7/11/2019 | SEFA Group, Inc | (S) Additive for polymers: e.g., rubber, plastics, adhesives, coatings and sealants | (G) Ashes (residues), reaction products with alkenetrialkoxysilane and silicic acid (H4SiO4) tetra-Et ester.
P-19-0125 | 1 | 6/28/2019 | SEFA Group, Inc | (S) Additive for polymers: e.g., rubber, plastics, adhesives, coatings and sealants | (G) Ashes (residues), reactions products with alkenyltrialkoxysilane, silicic acid (H4SiO4) tetra-Et ester and trialkoxyalkylsilane.
P-19-0125A | 2 | 7/11/2019 | SEFA Group, Inc | (S) Additive for polymers: e.g., rubber, plastics, adhesives, coatings and sealants | (G) Ashes (residues), reactions products with alkenyltrialkoxysilane, silicic acid (H4SiO4) tetra-Et ester and trialkoxyalkylsilane.
P-19-0126 | 1 | 6/28/2019 | SEFA Group, Inc | (S) Additive for polymers: e.g., rubber, plastics, adhesives, coatings and sealants | (G) Ashes (residues), reaction products with 1-alkenyl-N-(alkenyldialkylsilyl)-1,1-dialkylsilanamine.
P-19-0126A | 2 | 7/11/2019 | SEFA Group, Inc | (S) Additive for polymers: e.g., rubber, plastics, adhesives, coatings and sealants | (G) Ashes (residues), reaction products with 1-alkenyl-N-(alkenyldialkylsilyl)-1,1-dialkylsilanamine.
P-19-0127 | 1 | 6/28/2019 | SEFA Group, Inc | (S) Additive for polymers: e.g., rubber, plastics, adhesives, coatings and sealants | (G) Ashes (residues), reaction products with alkenyltrialkoxysilane, silicic acid (H4SiO4) tetra-Et ester and (trialkoxysilyl)carbomonocycle.
P-19-0127A | 2 | 7/11/2019 | SEFA Group, Inc | (S) Additive for polymers: e.g., rubber, plastics, adhesives, coatings and sealants | (G) Ashes (residues), reaction products with alkenyltrialkoxysilane, silicic acid (H4SiO4) tetra-Et ester and (trialkoxysilyl)carbomonocycle.
P-19-0128 | 1 | 6/28/2019 | SEFA Group, Inc | (S) Additive for polymers: e.g., rubber, plastics, adhesives, coatings and sealants | (G) Ashes (residues), reaction products with alkenyltrialkoxysilane, silicic acid (H4SiO4) tetra-Et ester and 1,1,1-trialkyll-N-(trialkylsilyl)silanamine.
P-19-0128A | 2 | 7/11/2019 | SEFA Group, Inc | (S) Additive for polymers: e.g., rubber, plastics, adhesives, coatings and sealants | (G) Ashes (residues), reaction products with alkenyltrialkoxysilane, silicic acid (H4SiO4) tetra-Et ester and 1,1,1-trialkyll-N-(trialkylsilyl)silanamine.
P-19-0129 | 1 | 6/28/2019 | SEFA Group, Inc | (S) Additive for polymers: e.g., rubber, plastics, adhesives, coatings and sealants | (G) Ashes (residues), reactions products with alkenyltrialkoxysilane, silicic acid (H4SiO4) tetra-Et ester and trialkoxyalkylsilane.
P-19-0129A | 2 | 7/11/2019 | SEFA Group, Inc | (S) Additive for polymers: e.g., rubber, plastics, adhesives, coatings and sealants | (G) Ashes (residues), reactions products with alkenyltrialkoxysilane, silicic acid (H4SiO4) tetra-Et ester and trialkoxyalkylsilane.
P-19-0130 | 2 | 7/8/2019 | CBI | (G) Dye | (G) Aminohydroxy naphthalenesulfonic acid, coupled with diazotized[(aminophenyl)sulfonyl]ethyl hydrogen sulfate and diazotized amino[[(sulfooxy)ethyl]sulfonyl]benzenesulfonic acid, salts.
P-19-0130A | 3 | 7/11/2019 | CBI | (G) Dye | (G) Aminohydroxy naphthalenesulfonic acid, coupled with diazotized[(aminophenyl)sulfonyl]ethyl hydrogen sulfate and diazotized amino[[(sulfooxy)ethyl]sulfonyl]benzenesulfonic acid, salts.
P-19-0131 | 2 | 7/17/2019 | CBI | (G) Additive for horizontal oil drilling | (G) Isoalkylaminium, N-isoalkyl,-N, N-dimethyl chloride.
P-19-0132 | 1 | 7/15/2019 | Allnex USA, Inc. | (S) Adhesion-enhancing resin for wood applications | (G) Fatty acid, polymer with alkanedioic acid dialkyl ester, alkanoic acid, oxo alkyl ester, substituted carbomonocycle, alkyl substituted alkanediol, and alkylol substituted alkane.
P-19-0133 | 1 | 7/18/2019 | SHIN-ETSU MICROSI | (G) Contained use for microlithography for electronic device manufacturing | (G) Heterotrisubstituted-bile acid, 1-(difluorosulfomethyl)-2,2,2-trifluoroethyl ester, ion(1-), (5)-, triphenylsulfonium (1:1).
P-19-0136 | 1 | 7/23/2019 | CBI | (S) Intermediate | (G) iso-alkylamine, N-isoalkyl-N-methyl.
P-19-0138 | 2 | 7/25/2019 | CBI | (G) Intermediate | (G) Perfluorodioxaalkanoyl fluoride.
P-19-0139 | 1 | 7/26/2019 | CBI | (G) Intermediate | (G) Perfluoro-2-methyl-trioxaalkanoyl fluoride.
P-19-0140 | 1 | 7/29/2019 | CBI | (G) Intermediate | (G) Perfluorodioxaalkyl vinyl ether.
SN-19-0004A | 5 | 6/7/2019 | CBI | (S) A lubricating agent used in the production of automotive disc brakes | (G) Pitch coke.
* The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 07/01/2019 to 07/31/2019
Case No. | Received date | Commencement date | If amendment, type of amendment | Chemical substance
J-18-0002A | 7/16/2019 | 6/19/2018 | Provided CBI substantiation | (G) Biofuel producing Saccharomyces cerevisiae modified, genetically stable.
J-18-0028 | 7/19/2019 | 6/24/2019 | N | (S) Genetically engineered yeast FS0205.
J-18-0028A | 7/24/2019 | 6/24/2019 | Removed CAS# | (S) Genetically modified yeast.
J-18-0028A | 7/26/2019 | 6/24/2019 | Revised generic name | (S) Genetically modified yeast FS0205.
J-18-0028A | 7/30/2019 | 6/24/2019 | Revised generic name | (S) Saccharomyces cerevisiae FS0205.
P-02-0796A | 7/29/2019 | 2/13/2018 | Provided CBI substantiation | (G) Polyglycerin alkyl ether.
P-16-0420 | 7/17/2019 | 7/6/2019 | N | (G) Dimethylcyclohexene propanol.
P-16-0420A | 7/19/2019 | 7/6/2019 | Provided CBI substantiation | (G) Dimethylcyclohexene propanol.
P-17-0382 | 7/9/2019 | 6/20/2019 | N | (S) Amides, tallow, N,N-bis(2-hydroxypropyl).
P-18-0048 | 7/3/2019 | 6/25/2019 | N | (S) (2-Butoxyethoxy)acetic acid.
P-18-0048A | 7/9/2019 | 6/25/2019 | Revised chemical name | (S) Acetic acid, 2-(2-butoxyethoxy)-.
P-18-0120 | 7/2/2019 | 7/2/2019 | N | (S) 1H-Pyrrole-2,5-dione, 1,1′-C36-alkylenebis-.
P-18-0129A | 7/2/2019 | 5/28/2019 | Provided CBI substantiation | (S) Benzenepropanal, .alpha.,.alpha.,3-trimethyl-.
P-18-0168A | 7/2/2019 | 4/2/2019 | Revised generic name | (G) Alkoxylated amine substituted triaryl methane.
P-18-0266 | 7/19/2019 | 6/26/2019 | N | (S) Alkanes, C20-45-branched and linear.
P-18-0322 | 7/22/2019 | 7/6/2019 | N | (G) Heteromonocycle, 4,6-dimethyl-2-(1-phenylethyl)-,.
P-18-0404 | 7/5/2019 | 7/5/2019 | N | (G) Alkylmultiheteroatom,2-functionalisedalkyl-2-hydroxyalkyl-, polymer with alkylheteroatom-multialkylfunctionalised carbomonocyleheteroatom and multiglycidylether difunctionalised polyalkylene glycol.
P-19-0056 | 7/3/2019 | 7/1/2019 | N | (S) Alkanes, C8-20-branched and linear.
P-19-0060 | 7/29/2019 | 7/24/2019 | N | (S) Alkanes, C8-18-branched and linear.
P-19-0071 | 7/17/2019 | 7/9/2019 | N | (S) 2,4-Hexadienoic acid, 1,1′-[2-ethyl-2-[[(1-oxo-2,4-hexadien-1-yl)oxy]methyl]-1,3-propanediyl] ester.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 07/01/2019 to 07/31/2019
Case No. | Approved date | Type of test information | Chemical substance
P-00-0281 | 7/16/2019 | Surface Tension of Aqueous Solutions (OECD Test Guideline 115), Water Solubility (OECD Test Guideline 105) | (G) Alkylaryl sulfonic acid, sodium salts.
P-05-0075 | 7/30/2019 | Anaerobic Transformation in Aquatic Sediment Systems (OECD Test Guideline 308), Test Substance Characterization | (G) Polymer of perfluoroalkylethylmethacryalte, alkylacrylate, chloroethene, and urethane methacrylate.
P-05-0107 | 7/30/2019 | Anaerobic Transformation in Aquatic Sediment Systems (OECD Test Guideline 308), Test Substance Characterization | (G) Polymer of perfluoroalkylethylacrylate, alkylaminomethacrylate, hydroxyalkylmethacrylate, organic acid salt.
P-06-0388 | 7/30/2019 | Anaerobic Transformation in Aquatic Sediment Systems (OECD Test Guideline 308), Test Substance Characterization | (G) Perfluoroalkylethylmethacrylate copolymer.
P-10-0470 | 7/1/2019 | Impurity Analytical Results | (G) Fluoro modified, polyether modified, and alkyl modified polymethylsiloxane.
P-10-0471 | 7/1/2019 | Impurity Analytical Results | (G) Fluoro modified, polyether modified polyacrylate.
P-15-0054 | 7/16/2019 | Fish Acute Toxicity Test (OECD Test Guideline 203), Fish, Prolonged Toxicity Test: 14-day Study (OECD Test Guideline 204), Daphnia sp. Acute Immobilization Test (OECD Test Guideline 202), Daphnia magna Reproduction Test (OECD Test Guideline 211), Alga, Growth Inhibition Test (OECD Test Guideline 201), Soil Microorganisms: Nitrogen Transformation Test (OECD Test Guideline 216), Activated Sludge, Respiration Inhibition Test (OECD Test Guideline 209) | (G) Carbon nanotubes powder.
P-15-0443 | 7/17/2019 | 90-Day Inhalation Toxicity (OECD Test Guideline 413) | (G) Rare earth doped zirconium oxide.
P-15-0445 | 7/17/2019 | 90-Day Inhalation Toxicity (OECD Test Guideline 413) | (G) Rare earth doped zirconium oxide.
P-16-0462 | 7/5/2019 | Metals Analysis Report | (G) Ash (residues), reaction products with tetraethoxydioxa-polyheteroatom-disilaalkane.
P-16-0543 | 7/16/2019 | Exposure Monitoring Report | (G) Halogenophosphoric acid metal salt.
P-18-0035 | 7/16/2019 | Fish Acute Toxicity Test, Freshwater and Marine (OECD Test Guideline 203) | (G) Methacrylic acid heterocyclic alkyl ester, methacrylic acid heterocyclic alkyl ester.
P-19-0073 | 7/16/2019 | Acute Oral Toxicity (OECD Test Guideline 423, 425), Acute Dermal Toxicity (OECD Test Guideline 402), Acute Dermal Irritation (OECD Test Guideline 404), In Vitro Skin Corrosion (OECD Test Guideline 431) | (G) Propoxylated, ethoxylated alkoxyalkyl ether.

If you are interested in information that is not included in these tables, you may contact EPA's technical information contact or general information contact as described under FOR FURTHER INFORMATION CONTACT to access additional non-CBI information that may be available.

Authority: 15 U.S.C. 2601 et seq.

Dated: August 29, 2019.
Pamela Myrick,
Director, Information Management Division, Office of Pollution Prevention and Toxics.

[FR Doc. 2019-19123 Filed 9-4-19; 8:45 am]

BILLING CODE 6560-50-P